DEPARTMENT OF DEFENSE

Office of the Secretary

[Transmittal Nos. 11-15]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-15 with attached transmittal, policy justification, and Sensitivity of Technology.

Dated: July 15, 2011.
Aaron Siegel,
Alternate OSD Federal Register Liaison Officer, Department of Defense.

BILLING CODE 5001-06-P

BILLING CODE 5001-06-C

Transmittal No. 11-15

Notice of Proposed Issuance of Letter of Offer Pursuant to Section 36(b)(1) of the Arms Export Control Act, as amended

(i) Prospective Purchaser: India

(ii) Total Estimated Value:

Major Defense Equipment * | $38 million
Other | $48 million
TOTAL | $86 million
* as defined in Section 47(6) of the Arms Export Control Act.

(iii) Description and Quantity or Quantities of Articles or Services under Consideration for Purchase: 32 MK-54 All-Up-Round Lightweight Torpedoes, 3 recoverable exercise torpedoes, 1 training shape, containers, spare and repair parts, support and test equipment, publications and technical documentation, personnel training and training equipment, transportation, U.S. Government and contractor representatives' technical assistance, engineering and logistics support services, and other related elements of logistics support.

(iv) Military Department: Navy (AAR)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress:

POLICY JUSTIFICATION

India—MK-54 Lightweight Torpedoes

The Government of India has requested a possible sale of 32 MK-54 All-Up-Round Lightweight Torpedoes, 3 recoverable exercise torpedoes, 1 training shape, containers, spare and repair parts, support and test equipment, publications and technical documentation, personnel training and training equipment, transportation, U.S. Government and contractor representatives' technical assistance, engineering and logistics support services, and other related elements of logistics support. The estimated cost is $86 million.

This proposed sale will contribute to the foreign policy and national security of the United States by helping to strengthen the U.S.-India strategic relationship and to improve the security of a key important partner which continues to be an important force for political stability, peace, and economic progress in South Asia.

India intends to use the torpedoes on its Indian Navy P-8I Neptune maritime patrol aircraft, which will provide enhanced capabilities in effective defense of critical sea lines of communication.

The proposed sale of this equipment and support will not alter the basic military balance in the region.

The prime contractors will be The Boeing Company in St. Louis, Missouri, and a yet to be identified U.S. torpedo contractor. Details of a potential offset agreement in connection with the proposed sale are not known as of the date of this transmittal.

Implementation of this proposed sale will require U.S. Government and contractor representative in-country visits on a temporary basis for technical reviews, support, and oversight.

There will be no adverse impact on U.S. defense readiness as a result of this proposed sale.

Transmittal No. 11-15

Notice of Proposed Issuance of Letter of Offer Pursuant to Section 36(b)(1) of the Arms Export Control Act (U)

Annex

Item No. vii

(vii) Sensitivity of Technology:

1. The MK-54 is a conventional torpedo that can be launched from surface ships, helicopters, and fixed wing aircraft. The MK-54 is an upgrade to the MK-46 torpedo. The upgrade to MK-54 entails replacement of the torpedo's sonar and guidance and control systems with modern technology. The new guidance and control system uses a mixture of commercial-off-the-shelf and custom-built electronics. The warhead, fuel tank and propulsion system from the MK-46 torpedo are re-used in the MK-54 configuration with minor modifications. The MK-54 is highly effective against modern diesel and nuclear submarines. It has advanced logic that allows it to detect and prosecute threat submarines operating in challenging littoral environments. It is also effective in the presence of advanced acoustic countermeasures that may be deployed by threat submarines.

2. The assembled MK-54 torpedo and several of its individual components are classified Confidential. The MK-54 operational software is classified Secret as is any hardware upon which the software has been installed.

3. If a technologically advanced adversary were to obtain knowledge of the specific hardware and software elements, the information could be used to develop countermeasures which might reduce weapon system effectiveness or be used in the development of a system with similar or advanced capabilities.

[FR Doc. 2011-18398 Filed 7-20-11; 8:45 am]

BILLING CODE 5001-06-P